FEDERAL COMMUNICATIONS COMMISSION

Privacy Act of 1974; System of Records

AGENCY: Federal Communications Commission.

ACTION: Notice of a modified system of records.

SUMMARY: The Federal Communications Commission (FCC, Commission, or Agency) proposes to rename and modify an existing system of records, FCC/OMD-13, Information Quality Comments (formerly: FCC/OMD-13, Data Quality Comments), subject to the Privacy Act of 1974, as amended. This action is necessary to meet the requirements of the Privacy Act to publish in the Federal Register notice of the existence and character of records maintained by the agency. The FCC's Performance Evaluation and Records Management (PERM) division in the Office of Managing Director uses this system to store the public comments (submitted since FY 2003) on information disseminated by the FCC, as required under the Data Quality Act of 2001 and OMB regulations.

DATES: This system of records will become effective on October 15, 2018. Written comments on the system's routine uses are due by November 14, 2018. The routine uses will become effective on November 14, 2018, unless written comments are received that require a contrary determination.

ADDRESSES: Send comments to Leslie F. Smith, Privacy Manager, Information Technology (IT), Room 1-C216, Federal Communications Commission (FCC), 445 12th Street SW, Washington, DC 20554, or to Leslie.Smith@fcc.gov.

FOR FURTHER INFORMATION CONTACT: Leslie F. Smith, (202) 418-0217, or Leslie.Smith@fcc.gov (and to obtain a copy of the Narrative Statement and the Supplementary Documentation, which includes details of the modifications to this system of records).

SUPPLEMENTARY INFORMATION: This notice serves to update and modify FCC/OMD-13 as a result of the various necessary changes and updates, including an increased use of electronic information technology and format changes required by OMB Circular A-108. The substantive changes and modifications to the previously published version of the FCC/OMD-13 system of records include:

1. Renaming this SORN as FCC/OMD-13, Information Quality Comments.

2. Updating the language in the Security Classification to follow OMB guidance.

3. Minor changes to the language in the Categories of Individuals and Categories of Records to be consistent with the language and phrasing now used in the FCC's SORNs.

4. Updating and/or revising language in five routine uses: (1) Public Access; (2) Adjudication and Litigation; (3) Law Enforcement and Investigation; (4) Congressional Inquiries; and (5) Government-wide Program Management and Oversight.

5. Adding three new routine uses: (6) For Non-Federal Personnel to allow contractors performing or working on a contract for the Federal Government access to information; (7) Breach Notification to address real or suspected data breach situations at the FCC; and (8) Assistance to Federal Agencies and Entities for assistance with other Federal agencies' data breach situations. Routine Uses (7) and (8) are required by OMB Memorandum M-17-12.

6. A new section covering Reporting to a Consumer Reporting Agency to address valid and overdue debts owed by individuals to the FCC under the Debt Collection Act, as recommended by OMB.

7. A new records retention and disposal schedule approved by the National Archives and Records Administration (NARA).

8. A new History section referencing the previous publication of this SORN in the Federal Register.

The system of records is also being updated to reflect various administrative changes related to the system managers and system addresses; policy and practices for storage and retrieval of the information; administrative, technical, and physical safeguards; and updated notification, records access, and contesting records procedures.

SYSTEM NAME AND NUMBER

FCC/OMD-13, Information Quality Comments.

SECURITY CLASSIFICATION:

Unclassified.

SYSTEM LOCATION:

Performance Evaluation and Records Management (PERM), Office of Managing Director (OMD), Federal Communications Commission (FCC), 445 12th Street SW, Washington, DC 20554.

SYSTEM MANAGER(S):

Performance Evaluation and Records Management (PERM), Office of Managing Director (OMD), Federal Communications Commission (FCC), 445 12th Street SW, Washington, DC 20554; or Leslie F. Smith, Privacy Manager, Information Technology (IT), Federal Communications Commission (FCC), 445 12th Street SW, Washington, DC 20554, or email Leslie.Smith@fcc.gov.

AUTHORITY FOR MAINTENANCE OF THE SYSTEM:

Section 515 of the Treasury and General Government Appropriations Act for Fiscal Year 2001, Public Law 106-554 sec. 515, Appendix C, 114 Stat. 2763A-153 (2000).

PURPOSE(S) OF THE SYSTEM:

The Data Quality Act of 2001 and OMB's implementing regulations mandate that agencies develop and make public guidelines for commenting on information disseminated by that Federal agency. Further, OMB requires that Federal agencies publicly post on their websites the information quality comments deemed to meet the agency standards and the resolution of those comments. This system of records maintains the comments received from the public since the inception of this requirement in FY2003.

CATEGORIES OF INDIVIDUALS COVERED BY THE SYSTEM:

Categories of individuals in this system include, but are not limited to members of the public who have submitted comments or questions through the Information Quality Comments process.

CATEGORIES OF RECORDS IN THE SYSTEM:

Information in this system includes, but is not limited to comments received through the FCC's Information Quality Comment process and, where appropriate, materials that are associated with the resolution of those comments. The system retains information about commenters, but will not make personally identifiable information (PII) about a commenter public on the FCC's website.

RECORD SOURCE CATEGORIES:

The sources for the information in the Information Quality Comments system include, but are not limited to comments submitted by members of the public; correspondence involved in resolving comments; and annual reports to OMB.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. Public Access—In accordance with OMB's requirements (OMB Memorandum from John Graham, August 30, 2004, “Posting of Information Quality Correction Requests and Responses” found at: https://www.whitehouse.gov/omb/information-regulatory-affairs/ the complete set of correspondence with a qualifying Information Quality commenter is available on the FCC's Information Quality web page at: https://www.fcc.gov/general/information-quality-guidelines-fcc.

2. Adjudication and Litigation—To disclose information to the Department of Justice (DOJ), or in a proceeding before a court or other administrative body before which the FCC is authorized to appear, when: (a) The FCC or any component thereof; or (b) any employee of the FCC in his or her official capacity; or (c) any employee of the FCC in his or her individual capacity where the DOJ or the FCC has agreed to represent the employee; or (d) the United States Government is a party to litigation or has an interest in such litigation, and the use of such records by the DOJ or the FCC is deemed by the FCC to be relevant and necessary to the litigation.

3. Law enforcement and Investigation—To disclose pertinent information to the appropriate Federal, State, and/or local agency responsible for investigating, prosecuting, enforcing, or implementing a statute, regulation, rule, or order, where the FCC becomes aware of an indication of a violation or potential violation of civil or criminal law or regulation.

4. Congressional Inquiries—To provide information to a Congressional office from the record of an individual in response to an inquiry from that Congressional office made at the request of that individual.

5. Government-wide Program Management and Oversight—To disclose information to the National Archives and Records Administration (NARA) for use in its records management inspections; to the Government Accountability Office (GAO) for oversight purposes; to the U.S. Department of Justice (DOJ) to obtain that department's advice regarding disclosure obligations under the Freedom of Information Act; or to the Office of Management and Budget (OMB) to obtain that office's advice regarding obligations under the Privacy Act.

6. For Non-Federal Personnel—To disclose information to contractors performing or working on a contract for the Federal Government who may require access to this system of records.

7. Breach Notification—To disclose information to appropriate agencies, entities, and persons when (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

8. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

REPORTING TO A CONSUMER REPORTING AGENCY:

In addition to the routine uses cited above, the Commission may share information from this system of records with a consumer reporting agency regarding an individual who has not paid a valid and overdue debt owed to the Commission, following the procedures set out in the Debt Collection Act, 31 U.S.C. 3711(e).

POLICIES AND PRACTICES FOR STORAGE OF RECORDS:

Any paper copies of comments received are made electronic, and once verified, posted on the FCC's website. Any electronic versions of actual comments are also posted on the FCC website.

POLICIES AND PRACTICES FOR RETRIEVAL OF RECORDS:

The Commission saves each record submitted by the name of the person filing it, as well as the date of submittal. The information is subsequently posed to www.fcc.gov by the fiscal year.

Records are retrievable primarily by date of submittal. Under this hierarchy, records are retrievable by name of individual requester.

POLICIES AND PRACTICES FOR RETENTION AND DISPOSAL OF RECORDS:

The National Archives and Records Administration's (NARA) Records Disposition Authority Number: DAA-GRS-2017-0008-0005, requires that information in this system in all media types (including, but not limited to electronic data, records, and files, and paper documents), is to be destroyed six (6) years after the submission of the “Year-End Information Quality Report” to OMB or the oversight entity notice of approval, as appropriate, but longer retention is authorized if required for business use.

ADMINISTRATIVE, TECHNICAL, AND PHYSICAL SAFEGUARDS:

Electronic records are posted on the FCC website, including any complaints and responses, and thus, are publicly available. The electronic records, files, and data are stored within FCC accreditation boundaries. Access to the electronic files is restricted to IT staff, contractors, and vendors who maintain the networks and services. Other FCC employees, contractors, vendors, and users may be granted access on a “need-to-know” basis. The FCC's data is protected by the FCC and third party privacy safeguards, a comprehensive and dynamic set of IT safety and security protocols and features that are designed to meet all Federal IT privacy standards, including those required by the Federal Information Security Modernization Act of 2014 (FISMA), the Office of Management and Budget (OMB), and the National Institute of Standards and Technology (NIST).

Any paper copies of comments received are made electronic and destroyed by shredding after the electronic version is verified as allowed by NARA. Only authorized PERM staff and contractors may have access to these documents. Other FCC employees and contractors may be granted access as required, for specific purposes.

RECORD ACCESS PROCEDURES:

Individuals wishing to request access to and/or amendment of records about them should follow the Notification Procedure below.

CONTESTING RECORD PROCEDURES:

Individuals wishing to request an amendment of records about them should follow the Notification Procedure below.

NOTIFICATION PROCEDURES:

Individuals wishing to determine whether this system of records contains information about them may do so by writing to Leslie F. Smith, Privacy Manager, Information Technology (IT), Federal Communications Commission (FCC), 445 12th Street SW, Washington, DC 20554, or email Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (47 CFR part 0, subpart E).

EXEMPTIONS PROMULGATED FOR THE SYSTEM:

None.

HISTORY:

The FCC last gave full notice of this system of records, FCC/OMD-13, Information Quality Comments (formerly: FCC/OMD-13, Data Quality Comments), by publication in the Federal Register on April 5, 2006 (71 FR 17234, 17256).

Federal Communications Commission.
Marlene Dortch,
Secretary.

[FR Doc. 2018-22361 Filed 10-12-18; 8:45 am]

BILLING CODE 6712-01-P